DEPARTMENT OF ENERGY

Federal Energy Regulatory Commission

Combined Notice of Filings #1

Take notice that the Commission received the following exempt wholesale generator filings:

Docket Numbers: EG21-38-000.

Applicants: RE Slate 1 LLC.

Description: Notice of Self-Certification of Exempt Wholesale Generator Status of RE Slate 1 LLC.

Filed Date: 11/19/20.

Accession Number: 20201119-5161.

Comments Due: 5 p.m. ET 12/10/20.

Take notice that the Commission received the following electric rate filings:

Docket Numbers: ER11-1858-009.

Applicants: NorthWestern Corporation.

Description: Notice of Change in Status of Northwestern Corporation.

Filed Date: 11/19/20.

Accession Number: 20201119-5203.

Comments Due: 5 p.m. ET 12/10/20.

Docket Numbers: ER11-4443-002.

Applicants: AK Electric Supply LLC.

Description: Notice of Non-Material Change in Status, et al. of AK Electric Supply LLC.

Filed Date: 11/19/20.

Accession Number: 20201119-5200.

Comments Due: 5 p.m. ET 12/10/20.

Docket Numbers: ER20-945-002.

Applicants: Southwest Power Pool, Inc.

Description: Compliance filing: Deficiency Response—Compliance Filing in Response to June 30 Order to be effective 4/4/2020.

Filed Date: 11/20/20.

Accession Number: 20201120-5049.

Comments Due: 5 p.m. ET 12/11/20.

Docket Numbers: ER20-3040-001.

Applicants: Southwestern Electric Power Company.

Description: Tariff Amendment: Hope PSA to be effective 1/1/2020.

Filed Date: 11/20/20.

Accession Number: 20201120-5135.

Comments Due: 5 p.m. ET 12/11/20.

Docket Numbers: ER20-3042-001.

Applicants: Southwestern Electric Power Company.

Description: Tariff Amendment: Bentonville PSA to be effective 1/1/2020.

Filed Date: 11/20/20.

Accession Number: 20201120-5092.

Comments Due: 5 p.m. ET 12/11/20.

Docket Numbers: ER20-3043-001.

Applicants: Southwestern Electric Power Company.

Description: Tariff Amendment: ETEC and NTEC PSA to be effective 1/1/2020.

Filed Date: 11/20/20.

Accession Number: 20201120-5143.

Comments Due: 5 p.m. ET 12/11/20.

Docket Numbers: ER20-3044-001.

Applicants: Southwestern Electric Power Company.

Description: Tariff Amendment: NTEC PSA to be effective 1/1/2020.

Filed Date: 11/20/20.

Accession Number: 20201120-5142.

Comments Due: 5 p.m. ET 12/11/20.

Docket Numbers: ER20-3045-001.

Applicants: Southwestern Electric Power Company.

Description: Tariff Amendment: Prescott PSA to be effective 1/1/2020.

Filed Date: 11/20/20.

Accession Number: 20201120-5124.

Comments Due: 5 p.m. ET 12/11/20.

Docket Numbers: ER21-254-001.

Applicants: Harmony Florida Solar, LLC.

Description: Tariff Amendment: Harmony Florida Solar, LLC Supplement to Application for MBR Authority to be effective 10/30/2020.

Filed Date: 11/19/20.

Accession Number: 20201119-5120.

Comments Due: 5 p.m. ET 12/10/20.

Docket Numbers: ER21-443-000.

Applicants: Southwest Power Pool, Inc.

Description: § 205(d) Rate Filing: 2236R14 Golden Spread Electric Cooperative, Inc. NITSA NOA to be effective 11/1/2020.

Filed Date: 11/20/20.

Accession Number: 20201120-5019.

Comments Due: 5 p.m. ET 12/11/20.

Docket Numbers: ER21-444-000.

Applicants: Southern California Edison Company.

Description: Tariff Cancellation: Notice of Cancellation of Letter Agreement sPower Development SA No. 234 to be effective 11/21/2020.

Filed Date: 11/20/20.

Accession Number: 20201120-5060.

Comments Due: 5 p.m. ET 12/11/20.

Docket Numbers: ER21-445-000.

Applicants: Hill Top Energy Center LLC.

Description: Baseline eTariff Filing: Application For Market Based Rate Authority to be effective 1/15/2021.

Filed Date: 11/20/20.

Accession Number: 20201120-5067.

Comments Due: 5 p.m. ET 12/11/20.

Docket Numbers: ER21-446-000.

Applicants: Arizona Public Service Company.

Description: § 205(d) Rate Filing: Service Agreement Nos. 344 and 345, Agreement with CSE and S&R to be effective 11/5/2020.

Filed Date: 11/20/20.

Accession Number: 20201120-5107.

Comments Due: 5 p.m. ET 12/11/20.

Docket Numbers: ER21-447-000.

Applicants: California Independent System Operator Corporation.

Description: § 205(d) Rate Filing: 2020-11-20 Pseudo-Ties of Shared Resources to be effective 1/30/2021.

Filed Date: 11/20/20.

Accession Number: 20201120-5108.

Comments Due: 5 p.m. ET 12/11/20.

Docket Numbers: ER21-448-000.

Applicants: PJM Interconnection, L.L.C.

Description: Tariff Cancellation: Notice of Cancellation of WMPA, SA No. 4588; Queue No. AB2-027 re: suspension to be effective 10/26/2020.

Filed Date: 11/20/20.

Accession Number: 20201120-5128.

Comments Due: 5 p.m. ET 12/11/20.

Docket Numbers: ER21-449-000.

Applicants: PJM Interconnection, L.L.C.

Description: § 205(d) Rate Filing: Notice of Cancellation of WMPA SA No. 5460; Queue No. AE2-304 to be effective 12/25/2020.

Filed Date: 11/20/20.

Accession Number: 20201120-5145.

Comments Due: 5 p.m. ET 12/11/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2020.
Nathaniel J. Davis, Sr.,
Deputy Secretary.

[FR Doc. 2020-26186 Filed 11-25-20; 8:45 am]

BILLING CODE 6717-01-P